DEPARTMENT OF COMMERCE

National Oceanic and Atmospheric Administration

50 CFR Part 660

[Docket No. 051014263-6249-04; I.D. 120805A]

RIN 0648-AU00

Fisheries Off West Coast States; Pacific Coast Groundfish Fishery; Specifications and Management Measures; Correction

AGENCY: National Marine Fisheries Service (NMFS), National Oceanic and Atmospheric Administration (NOAA), Commerce.

ACTION: Correction.

SUMMARY: On August 22, 2006, a temporary rule extension was published in the Federal Register intending to extend the 2006 optimum yield (OY) for darkblotched rockfish caught in the U.S. exclusive economic zone (EEZ) off the coasts of Washington, Oregon, and California. This correction changes the “ACTION” and “DATES” sections of that rule to remove references to a temporary rule and make the amendments published on August 22, 2006, effective August 27, 2006.

DATES: The amendments to 50 CFR part 660, subpart G, published at 71 FR 48824, August 22, 2006, are effective August 27, 2006.

FOR FURTHER INFORMATION CONTACT: Jamie Goen (Northwest Region, NMFS), phone: 206-526-6140; fax: 206-526-6736; and e-mail: jamie.goen@noaa.gov.

SUPPLEMENTARY INFORMATION:

On August 22, 2006 (71 FR 48824), a temporary rule extension was published in the Federal Register intending to extend the 2006 optimum yield (OY) for darkblotched rockfish caught in the U.S. exclusive economic zone (EEZ) off the coasts of Washington, Oregon, and California.

Acceptable biological catches (ABCs) and OYs are established for each year. Management measures are established at the start of the biennial period, and are adjusted throughout the biennial management period, to keep harvest within the OYs. At the Pacific Council's October 31 - November 4, 2005, meeting in San Diego, CA, the Pacific Council, in consultation with Pacific Coast Treaty Indian Tribes and the States of Washington, Oregon, and California, recommended a reduction of the 2006 darkblotched rockfish OY to 200 mt for March through December 2006. The management measures for March through December 2006 were proposed on December 19, 2005 (70 FR 75115), and implemented via the final rule published on February 17, 2006 (71 FR 8489).

The 2006 darkblotched rockfish OY of 200 mt is an interim measure pursuant to section 305(c) of the Magnuson-Stevens Act, in effect while the rebuilding plan (now referred to as Amendment 16-4) is being developed and implemented. Under the provisions of section 305(c)(3) of the Magnuson-Stevens Act, interim measures shall remain in effect for not more than 180 days after the date of publication, and may be extended by publication in the Federal Register for an additional period of not more than 180 days, provided the public has had an opportunity to comment on the interim measures, and the Council is actively preparing a plan amendment to address rebuilding on a permanent basis. The public has been provided an opportunity to comment on the interim measures in the proposed rule (70 FR 75115, December 19, 2005), and NMFS recently announced the availability of Amendment 16-4, for public review (71 FR 25051, September 11, 2006). The proposed rule for Amendment 16-4 and the 2007-2008 specifications and management measures are expected to publish in September 2006 with a final rule expected to publish in November 2006, and become effective January 1, 2007. In addition, the Court's Order in Natural Resources Defense Council (NRDC) v. NMFS, 421 F.3d 872 (9th Cir. 2005) dated December 8, 2005, requires NMFS to implement a darkblotched rockfish quota for the entire 2006 fishing year pursuant to section 305(c). Because Amendment 16-4 has not completed its public and Agency review period, and the interim measure published with the February 17, 2006 final rule (71 FR 8489) expired on August 27, 2006, NMFS published an extension to the darkblotched rockfish OY beyond the first 180-day period (71 FR 48824, August 22, 2006 ).

However, the “ACTION” and “DATES” sections of the August 22, 2006 (71 FR 48824), Federal Register notice need to be corrected. Because the “DATES” section of the February 17, 2006 final rule (71 FR 8489), which published the revised darkblotched rockfish OY for the first 180-day period, never stated that the darkblotched rockfish OY within that final rule was a temporary action. As a result, the darkblotched rockfish OY published as part of the ABC/OY tables appeared to be a permanent final action changing 50 CFR part 660, subpart G. However, the preamble to the February 17, 2006 final rule (71 FR 8489) made clear that the darkblotched rockfish OY was a temporary action. Therefore, the temporary rule extension published on August 22, 2006 (71 FR 48824) had no temporary action to extend for a second 180-day period. This correction changes the “ACTION” and “DATES” section of the August 22, 2006 (71 FR 48824) rule to remove references to a temporary rule and make the changes effective August 27, 2006.

Classification

Pursuant to 5 U.S.C.553(b)(B), there is good cause to waive prior notice and an opportunity for public comment on this action, as notice and comment would be unnecessary. This rule corrects an incomplete effective date and makes the effective date consistent with the preamble and record for the temporary/interim rulemaking. Notice and comment is unnecessary because the legal authority under which the February 17, 2006 final rule (71 FR 8489) was promulgated did not allow the amendment to the darkblotched rockfish OY to be permanent. The darkblotched rockfish OY was only effective for 180 days. This action corrects the August 22, 2006 (71 FR 48824) rule which extended the temporary rule section (i.e., the darkblotched rockfish OY) of the February 17, 2006 final rule (71 FR 8489), as legally permitted. In addition, there is good cause under 5 U.S.C. 553(d)(3) to waive the 30-day delay in effective date. Because this final rule does not constitute a substantive rule, it is not subject to the requirement for a 30-day delay in effective date under 5 U.S.C. 553(d).

Authority: 16 U.S.C. 1801 et seq.

Dated: September 28, 2006.
Samuel D. Rauch III
Deputy Assistant Administrator for Regulatory Programs, National Marine Fisheries Service.

[FR Doc. 06-8436 Filed 9-28-06; 2:27 pm]

BILLING CODE 3510-22-S